DEPARTMENT OF ENERGY

Federal Energy Regulatory Commission

[Docket Nos. RP00-343-006 and RP00-629-002]

Kinder Morgan Interstate Gas Transmission LLC; Notice of Compliance Filing

June 26, 2003.

Take notice that on June 20, 2003, Kinder Morgan Interstate Gas Transmission LLC (KMIGT) tendered for filing as part of its FERC Gas Tariff, the revised tariff sheets listed in Appendices A-1 and A-2, to the filing. An effective date of June 1, 2003 is requested for the tariff sheets listed in Appendix A-1, and an effective date of June 1, 2003 for the tariff sheets in Appendix A-2.

KMIGT states that it is filing the above-referenced tariff sheets in compliance with the Commission's Order No. 637 and with the Commission's “Order on Rehearing and Compliance Filing” dated May 22, 2003 in Docket No. RP00-343.

KMIGT states that a copy of this filing has been served upon all parties on the official service list for this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 2, 2003.

Magalie R. Salas,
Secretary.

[FR Doc. 03-16749 Filed 7-2-03; 8:45 am]

BILLING CODE 6717-01-P